DEPARTMENT OF DEFENSE

Office of the Secretary

[Docket ID DoD-2022-OS-0034]

Proposed Collection; Comment Request

AGENCY: The Office of the Under Secretary of Defense for Research and Engineering (USD(R&E)), Department of Defense (DoD).

ACTION: 60-Day information collection notice.

SUMMARY: In compliance with the Paperwork Reduction Act of 1995, the DoD STEM Office announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by May 20, 2022.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Attn: Mailbox 24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to DoD STEM Office, 4800 Mark Center Drive, Suite 17C08, ATTN: Mr. Louie Lopez, or call 571-372-6715.

SUPPLEMENTARY INFORMATION: Title; Associated Form; and OMB Number: DoD STEM Office Work Experience Program Participant Survey; OMB Control Number 0704-STEM.

Needs and Uses: The information collection is required to evaluate the DoD Work Experience Programs in support of the DoD STEM Office. The intent of the survey collection is to evaluate the participants' perspective on the program, what attracted them to the program, what they accomplished during the program and expected benefits from participation, along with any obstacles or barriers they had to overcome to participate. The survey's intended population is participants in DoD-funded work experience programs. The programs include internships, post-doctoral, and similar positions where the participants are working at or for DoD organizations while also receiving mentorship. All of the respondents will be adults, either currently in college or recently graduated. Some of the respondents will be Federal civilians and others may be classified as contractors (working for DoD and being paid from DoD funds). Survey participation will be anonymous and data will be reported only in aggregated form.

Affected Public: Individuals or households.

Annual Burden Hours: 50.

Number of Respondents: 200.

Responses per Respondent: 1.

Annual Responses: 200.

Average Burden per Response: 15 minutes.

Frequency: Once.

Dated: March 15, 2022.
Aaron T. Siegel,
Alternate OSD Federal Register Liaison Officer, Department of Defense.

[FR Doc. 2022-05924 Filed 3-18-22; 8:45 am]

BILLING CODE 5001-06-P